DEPARTMENT OF ENERGY

Federal Energy Regulatory Commission

Combined Notice of Filings #1

May 26, 2010.

Take notice that the Commission received the following electric rate filings:

Docket Numbers: ER10-1093-001.

Applicants: Delaware City Refining Company LLC.

Description: Delaware City Refining Company LLC submits tariff filing per 35.17(b): Amended MBR Application to be effective 6/1/2010.

Filed Date: 05/26/2010.

Accession Number: 20100526-5048.

Comment Date: 5 p.m. Eastern Time on Wednesday, June 16, 2010.

Docket Numbers: ER10-1097-001.

Applicants: PBF Power Marketing LLC.

Description: PBF Power Marketing LLC submits tariff filing per 35.17(b): Amended MBR Application, to be effective 6/1/2010.

Filed Date: 05/26/2010.

Accession Number: 20100526-5049.

Comment Date: 5 p.m. Eastern Time on Wednesday, June 16, 2010.

Docket Numbers: ER09-1110-002; ER09-1114-003.

Applicants: RRI Energy Florida, LLC; RRI Energy Services, Inc.

Description: Supplement to Notice of Change in Status of RRI Energy Florida, LLC and RRI Energy Services, Inc.

Filed Date: 05/19/2010.

Accession Number: 20100519-5105.

Comment Date: 5 p.m. Eastern Time on Wednesday, June 09, 2010.

Docket Numbers: ER10-1176-001; ER10-1177-001; ER10-1184-001.

Applicants: Meadow Lake Wind Farm III LLC; Meadow Lake Wind Farm IV LLC; Blackstone Wind Farm II LLC.

Description: Blackstone Wind Farm II LLC submits supplement to petitions for market-based authorization.

Filed Date: 05/25/2010.

Accession Number: 20100525-0236.

Comment Date: 5 p.m. Eastern Time on Tuesday, June 15, 2010.

Docket Numbers: ER10-1305-000.

Applicants: Xcel Energy Companies.

Description: Xcel Energy submits a notice of cancellation of the Diversity Exchange Agreement.

Filed Date: 05/25/2010.

Accession Number: 20100525-0221.

Comment Date: 5 p.m. Eastern Time on Tuesday, June 15, 2010.

Docket Numbers: ER10-1306-000.

Applicants: ISO New England Inc.

Description: ISO New England Inc submits transmittal letter and tariff sheet to update the designation on Tariff Sheet 7013 in order to reflect changes made in filings previously accepted by the FERC.

Filed Date: 05/25/2010.

Accession Number: 20100525-0220.

Comment Date: 5 p.m. Eastern Time on Tuesday, June 15, 2010.

Docket Numbers: ER10-1307-000.

Applicants: USEG, LLP.

Description: USEG, LLP submits Notice of Cancellation of Rate Schedule FERC 1.

Filed Date: 05/25/2010.

Accession Number: 20100525-0219.

Comment Date: 5 p.m. Eastern Time on Tuesday, June 15, 2010.

Docket Numbers: ER10-1308-000.

Applicants: Southwest Power Pool Inc.

Description: Southwest Power Pool, Inc submits revision to several sheets of its Open Access Transmission Tariff to incorporate on the appropriate sheets language previously accepted by the Commission.

Filed Date: 05/25/2010.

Accession Number: 20100525-0218.

Comment Date: 5 p.m. Eastern Time on Tuesday, June 15, 2010.

Docket Numbers: ER10-1309-000.

Applicants: Southwest Power Pool Inc.

Description: Southwest Power Pool, Inc submits the Network Integration Service Agreements.

Filed Date: 05/25/2010.

Accession Number: 20100525-0224.

Comment Date: 5 p.m. Eastern Time on Tuesday, June 15, 2010.

Docket Numbers: ER10-1310-000.

Applicants: Southwest Power Pool, Inc.

Description: Southwest Power Pool, Inc submits a Network Integration Transmission Service Agreement.

Filed Date: 05/25/2010.

Accession Number: 20100525-0223.

Comment Date: 5 p.m. Eastern Time on Tuesday, June 15, 2010.

Docket Numbers: ER10-1311-000.

Applicants: Southwest Power Pool, Inc.

Description: Southwest Power Pool, Inc submits an executed Service Agreement for the Resale, Reassignment or Transfer of Point-to-Point Transmission Service.

Filed Date: 05/25/2010.

Accession Number: 20100525-0227.

Comment Date: 5 p.m. Eastern Time on Tuesday, June 15, 2010.

Docket Numbers: ER10-1312-000.

Applicants: Southwest Power Pool, Inc.

Description: Southwest Power Pool, Inc submits a notice of cancellation for two Service Agreements for the Resale, Reassignment or Transfer of Point-to-Point Transmission Service.

Filed Date: 05/25/2010.

Accession Number: 20100525-0228.

Comment Date: 5 p.m. Eastern Time on Tuesday, June 15, 2010.

Docket Numbers: ER10-1313-000.

Applicants: Southwest Power Pool, Inc.

Description: Southwest Power Pool, Inc submits an executed Meter Agent Service agreement.

Filed Date: 05/25/2010.

Accession Number: 20100525-0229.

Comment Date: 5 p.m. Eastern Time on Tuesday, June 15, 2010.

Docket Numbers: ER10-1314-000.

Applicants: Virginia Electric and Power Company.

Description: Virginia Electric and Power Company submits an executed Service Agreement for Wholesale Distribution Service.

Filed Date: 05/25/2010.

Accession Number: 20100525-0230.

Comment Date: 5 p.m. Eastern Time on Tuesday, June 15, 2010.

Docket Numbers: ER10-1315-000.

Applicants: Florida Power Corporation.

Description: Florida Power Corporation submits amendments to Power Sales Agreement with the City of Williston.

Filed Date: 05/25/2010.

Accession Number: 20100525-0233.

Comment Date: 5 p.m. Eastern Time on Tuesday, June 15, 2010.

Docket Numbers: ER10-1317-000.

Applicants: Southwest Power Pool, Inc.

Description: Southwest Power Pool, Inc submits an executed Large Generator Interconnection Agreement.

Filed Date: 05/25/2010.

Accession Number: 20100525-0235.

Comment Date: 5 p.m. Eastern Time on Tuesday, June 15, 2010.

Docket Numbers: ER10-1318-000.

Applicants: Midwest Independent Transmission System Operator, Inc.

Description: Midwest Independent Transmission System Operator, Inc submits revisions to their Open Access Transmission, Energy and Operating Reserves Markets Tariff.

Filed Date: 05/25/2010.

Accession Number: 20100525-0237.

Comment Date: 5 p.m. Eastern Time on Tuesday, June 15, 2010.

Docket Numbers: ER10-1319-000.

Applicants: CMS Generation Michigan Power, LLC.

Description: CMS Generation Michigan Power, LLC submits tariff filing per 35.12: CMS Generation Michigan Power LLC Sched No 1 Electric Tariff to be effective 5/27/2010.

Filed Date: 05/26/2010.

Accession Number: 20100526-5086.

Comment Date: 5 p.m. Eastern Time on Wednesday, June 16, 2010

.

Docket Numbers: ER10-1320-000.

Applicants: RRI Energy West, Inc.

Description: RRI Energy West, Inc submits a Notice of Cancellation of tariffs with RRI California Companies.

Filed Date: 05/26/2010.

Accession Number: 20100525-0263.

Comment Date: 5 p.m. Eastern Time on Wednesday, June 16, 2010.

Docket Numbers: ER10-1321-000.

Applicants: Southern California Edison Company.

Description: Southern California Edison Company submits revised rate sheets to the Small Generator Interconnection Agreement and the Service Agreement for Wholesale Distribution Service etc.

Filed Date: 05/26/2010.

Accession Number: 20100525-0261.

Comment Date: 5 p.m. Eastern Time on Wednesday, June 16, 2010.

Docket Numbers: ER10-1322-000.

Applicants: Southern California Edison Company.

Description: Southern California Edison submits First Revised Sheet No. 2 et al to FERC Electric Tariff, Second Revised Volume No. 6.

Filed Date: 05/26/2010.

Accession Number: 20100525-0262.

Comment Date: 5 p.m. Eastern Time on Wednesday, June 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St, NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-13629 Filed 6-7-10; 8:45 am]

BILLING CODE 6717-01-P